SECURITIES AND EXCHANGE COMMISSION

[File No. 500-1]

Bio-Life Labs, Inc., BSI2000, Inc., Calais Resources, Inc., EGX Funds Transfer, Inc., Great Western Land Recreation, Inc. (a/k/a Great Western Land and Recreation, Inc.), and Id-CONFIRM, Inc., Order of Suspension of Trading

February 24, 2011.

It appears to the Securities and Exchange Commission that there is a lack of current and accurate information concerning the securities of Bio-Life Labs, Inc. because it has not filed any periodic reports since the period ended March 31, 2005.

It appears to the Securities and Exchange Commission that there is a lack of current and accurate information concerning the securities of BSI2000, Inc. because it has not filed any periodic reports since the period ended December 31, 2005.

It appears to the Securities and Exchange Commission that there is a lack of current and accurate information concerning the securities of Calais Resources, Inc. because it has not filed any periodic reports since the period ended August 31, 2004.

It appears to the Securities and Exchange Commission that there is a lack of current and accurate information concerning the securities of EGX Funds Transfer, Inc. because it has not filed any periodic reports since the period ended December 31, 2002.

It appears to the Securities and Exchange Commission that there is a lack of current and accurate information concerning the securities of Great Western Land Recreation, Inc. (a/k/a Great Western Land and Recreation, Inc.) because it has not filed any periodic reports since the period ended June 30, 2006.

It appears to the Securities and Exchange Commission that there is a lack of current and accurate information concerning the securities of Id-CONFIRM, Inc. because it has not filed any periodic reports since the period ended March 31, 2007.

The Commission is of the opinion that the public interest and the protection of investors require a suspension of trading in the securities of the above-listed companies. Therefore, it is ordered, pursuant to Section 12(k) of the Securities Exchange Act of 1934, that trading in the securities of the above-listed companies is suspended for the period from 9:30 a.m. EST on February 24, 2011, through 11:59 p.m. EST on March 9, 2011.

By the Commission.
Jill M. Peterson,
Assistant Secretary.

[FR Doc. 2011-4496 Filed 2-24-11; 4:15 pm]

BILLING CODE 8011-01-P